DEPARTMENT OF TRANSPORTATION

Federal Aviation Administration

14 CFR Part 39

[Docket No. FAA-2012-0496; Directorate Identifier 2011-NM-263-AD; Amendment 39-17283; AD 2012-25-02]

RIN 2120-AA64

Airworthiness Directives; Bombardier, Inc. Airplanes

AGENCY: Federal Aviation Administration (FAA), Department of Transportation (DOT).

ACTION: Final rule.

SUMMARY: We are superseding an existing airworthiness directive (AD) for certain Bombardier, Inc. Model CL-600-2B19 (Regional Jet Series 100 & 440) airplanes. That AD currently requires revising the airworthiness limitations section (AWL) of the Instructions for Continued Airworthiness (ICA) of the Canadair Regional Jet Maintenance Requirements Manual (MRM) by incorporating new procedures for repetitive detailed and special detailed inspections for cracking of the aft pressure bulkhead. This new AD requires revising the maintenance program to incorporate a revised task specified in a certain temporary revision, which requires an improved non-destructive inspection procedure; and adds airplanes to the applicability. This AD was prompted by multiple reports of cracks on the forward face of the rear pressure bulkhead (RPB) web. We are issuing this AD to detect and correct cracking in the RPB, which could result in reduced structural integrity and rapid decompression of the airplane.

DATES: This AD becomes effective January 16, 2013.

The Director of the Federal Register approved the incorporation by reference of a certain publication listed in this AD as of January 16, 2013.

The Director of the Federal Register approved the incorporation by reference of a certain other publication listed in this AD as of November 29, 2005 (70 FR 69073, November 14, 2005).

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Jeffrey Zimmer, Aerospace Engineer, Airframe and Mechanical Systems Branch, ANE-171, FAA, New York Aircraft Certification Office, 1600 Stewart Avenue, Suite 410, Westbury, New York 11590; telephone (516) 228-7306; fax (516) 794-5531.

SUPPLEMENTARY INFORMATION:

Discussion

We issued a notice of proposed rulemaking (NPRM) to amend 14 CFR part 39 to include an AD that would apply to the specified products. That NPRM was published in the Federal Register on June 1, 2012 (77 FR 32439), and proposed to supersede AD 2005-23-01, Amendment 39-14359 (70 FR 69073, November 14, 2005). That NPRM proposed to correct an unsafe condition for the specified products. Transport Canada Civil Aviation (TCCA) Mandatory Continuing Airworthiness Information (MCAI) states:

Cracks on the forward face of the Rear Pressure Bulkhead (RPB) web have been discovered on three CL-600-2B19 aeroplanes in-service. This indicates that the existing inspection requirements of Airworthiness Limitation (AWL) task 53-61-153 mandated by [TCCA] AD CF-2005-13R1 are not adequate. Failure of the RPB could result in rapid decompression of the aeroplane.

A Temporary Revision (TR) has been made to Part 2 of the Maintenance Requirements Manual (MRM) to revise the existing AWL task by introducing an improved Non-Destructive Inspection (NDI) procedure to ensure that fatigue cracking of the RPB is detected and corrected.

This [TCCA] directive mandates the incorporation of a new NDI procedure for AWL task number 53-61-153.

You may obtain further information by examining the MCAI in the AD docket.

Comments

We gave the public the opportunity to participate in developing this AD. We have considered the comments received.

Request To Remove Certain Paragraphs of the NPRM (77 FR 32439, June 1, 2012)

Air Wisconsin requested that we remove paragraphs (g) and (h) from the NPRM (77 FR 32439, June 1, 2012) because paragraph (i) of the NPRM supersedes those paragraphs. Air Wisconsin stated several examples of how paragraphs (g) and (h) are superseded by paragraph (i) of the NPRM.

We disagree with the commenter's request to remove paragraphs (g) and (h) from this final rule. We find it necessary to restate those paragraphs in this final rule to ensure the existing inspections are done until the required maintenance program revision specified in paragraph (i) of this AD is accomplished. In addition, if an airplane is imported into the United States, it is necessary to accomplish the requirements of paragraph (g) of this AD before the airplane may be operated in this country.

However, we find that clarification of paragraph (i) of this AD is necessary. Once the maintenance program revision is accomplished, the restated requirements of paragraph (g) of this AD are terminated. Therefore, we have revised the last sentence of paragraph (i) of this AD to specify that doing the revision required by paragraph (i) of this AD terminates the requirements of paragraph (g) of this AD.

In addition, we have retained paragraph (h) in this final rule because it is necessary to allow Canadair Regional Jet Temporary Revision TR 2B-2109, dated October 13, 2005, to be removed from the maintenance requirements manual once a general revision is done. Further, we have determined that it is necessary to add a paragraph similar to paragraph (h) of this AD to allow removal of the temporary revision specified in paragraph (i) of this AD. Accordingly, we have revised this final rule to add new paragraph (k) to this AD to specify that information. Subsequent paragraphs have been reidentified.

Request To Revise Serial Numbers

Air Wisconsin requested that we correct the serial numbers in paragraph (c) or (g) of the NPRM (77 FR 32439, June 1, 2012) for consistency.

We disagree with the request. The serial numbers specified in paragraph (g) of this AD are only those that were part of the applicability of AD 2005-23-01, Amendment 39-14359 (70 FR 69073, November 14, 2005). Paragraph (c) of this AD lists all serial numbers that are affected by this new AD.

Requests To Clarify Compliance Time

In regard to paragraph (i)(2) of the NPRM (77 FR 32439, June 1, 2012), Air Wisconsin requested we clarify that, if the last inspection performed met the requirements of AWL 53-61-153 specified in Bombardier TR 2B-2187, dated June 22, 2011, to Appendix B—Airworthiness Limitations, of Part 2 of the Bombardier CL-600-2B19 MRM, the next inspection cycle as specified in that TR is acceptable provided that interval is not greater than that specified in Bombardier TR 2B-2187, dated June 22, 2011.

In addition, Comair requested that we provide credit for paragraph (i) of the NPRM (77 FR 32439, June 1, 2012) for operators that performed previous inspections using the special detailed inspection option specified in AWL 53-61-153 of the Canadair Regional Jet TR 2B-2109, dated October 13, 2005, to Appendix B, “Airworthiness Limitations,” of Part 2 of the Canadair Regional Jet MRM. Comair stated that it requested this credit so that operators would not be subject to the initial compliance time specified in paragraph (i)(1) or (i)(2) of the NPRM (77 FR 32439, June 1, 2012).

We agree to clarify the inspection compliance time. We agree that, if the last special detailed inspection (not the detailed visual inspection) performed met the requirements of AWL 53-61-153 specified in Bombardier TR 2B-2187, dated June 22, 2011; or Canadair Regional Jet TR 2B-2109, dated October 13, 2005; to Appendix B—Airworthiness Limitations, of Part 2 of the Bombardier CL-600-2B19 MRM; the next inspection should be at the next compliance time specified in AWL 53-61-153 of Bombardier TR 2B-2187, dated June 22, 2011 (i.e., within 4,360 landings since the last inspection). We have changed paragraph (i) of this AD to state that for airplanes that have already complied with AWL 53-61-153 of Bombardier TR 2B-2187, dated June 22, 2011, or the special detailed inspection option specified in Canadair Regional Jet TR 2B-2109, dated October 13, 2005, the initial compliance time for AWL 53-61-153 is within 4,360 flight cycles after accomplishing the most recent special detailed inspection, or within 1,500 flight cycles after accomplishing the most recent detailed inspection as specified in AWL 53-61-153 of Canadair Regional Jet TR 2B-2109, dated October 13, 2005, whichever occurs later.

Request To Approve Previous Alternative Methods of Compliance (AMOC)

Air Wisconsin requested that a statement be added to paragraph (k) of the NPRM (77 FR 32439, June 1, 2012) approving use of existing AMOCs that were approved previously in accordance with AD 2005-23-01, Amendment 39-14359 (70 FR 69073, November 14, 2005).

We agree to allow existing AMOCs approved in accordance with AD 2005-23-01, Amendment 39-14359 (70 FR 69073, November 14, 2005), as AMOCs for the corresponding requirements of paragraphs (g) and (h) of this AD only. We have revised paragraph (l)(1) of this AD (referred to as paragraph (k)(1) of the NPRM (77 FR 32439, June 1, 2012)) accordingly.

Request To Remove Reference to a Certain TR

Air Wisconsin requested that we remove the reference to Canadair Regional Jet TR 2B-2109, dated October 13, 2005, to Appendix B—Airworthiness Limitations, of Part 2 of the Bombardier CL-600-2B19 MRM from paragraph (j) of the NPRM (77 FR 32439, June 1, 2012). Air Wisconsin noted that Canadair Regional Jet TR 2B-2109, dated October 13, 2005, conflicts with Bombardier TR 2B-2187, dated June 22, 2011, and stated that Bombardier TR 2B-2187, dated June 22, 2011, specifically removed the “visual inspection” option that was in Canadair Regional Jet TR 2B-2109, dated October 13, 2005.

We agree with the request for the reasons stated by the commenter. We have removed the reference to Canadair Regional Jet TR 2B-2109, dated October 13, 2005, to Appendix B—Airworthiness Limitations, of Part 2 of the Bombardier CL-600-2B19 MRM, from paragraph (j) of this AD. Paragraph (i) of this AD requires that the maintenance program be revised to incorporate Bombardier TR 2B-2187, dated June 22, 2011. Paragraph (i) of this AD also specifies that once the revision is done, the requirements of paragraph (g) of this AD are terminated (paragraph (g) of the AD incorporated Bombardier TR 2B-2109, dated October 13, 2005).

Conclusion

We reviewed the available data, including the comments received, and determined that air safety and the public interest require adopting the AD with the changes described previously and minor editorial changes. We have determined that these changes:

• Are consistent with the intent that was proposed in the NPRM (77 FR 32439, June 1, 2012) for correcting the unsafe condition; and

• Do not add any additional burden upon the public than was already proposed in the NPRM (77 FR 32439, June 1, 2012).

Costs of Compliance

We estimate that this AD will affect about 586 products of U.S. registry.

The actions that are required by AD 2005-23-01, Amendment 39-14359 (70 FR 69073, November 14, 2005), and retained in this AD take about 2 work-hours per product, at an average labor rate of $85 per work hour. Based on these figures, the estimated cost of the currently required actions is $170 per product.

We estimate that it will take about 1 work-hour per product to comply with the new basic requirements of this AD. The average labor rate is $85 per work-hour. Based on these figures, we estimate the cost of this AD to the U.S. operators to be $49,810, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 32439, June 1, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2005-23-01, Amendment 39-14359 (70 FR 69073, November 14, 2005), and adding the following new AD:

2012-25-02 Bombardier, Inc.: Amendment 39-17283. Docket No. FAA-2012-0496; Directorate Identifier 2011-NM-263-AD.

(a) Effective Date

This airworthiness directive (AD) becomes effective January 16, 2013.

(b) Affected ADs

This AD supersedes AD 2005-23-01, Amendment 39-14359 (70 FR 69073, November 14, 2005).

(c) Applicability

(1) This AD applies to Bombardier, Inc. Model CL-600-2B19 (Regional Jet Series 100 & 440) airplanes, certificated in any category, serial numbers 7003 and subsequent.

(2) This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (l)(1) of this AD. The request should include a description of changes to the required inspections that will ensure the continued damage tolerance of the affected structure. The FAA has provided guidance for this determination in FAA Advisory Circular (AC) 25.1529-1A, dated November 20, 2007 (http://rgl.faa.gov/Regulatory_and_Guidance_Library/rgAdvisoryCircular.nsf/list/AC%2025.1529-1A/$FILE/AC%2025.1529-1A.pdf).

(d) Subject

Air Transport Association (ATA) of America Code 53, Fuselage.

(e) Reason

This AD was prompted by multiple reports of cracks on the forward face of the rear pressure bulkhead (RPB) web. We are issuing this AD to detect and correct cracking in the RPB, which could result in reduced structural integrity and rapid decompression of the airplane.

(f) Compliance

You are responsible for having the actions required by this AD performed within the compliance times specified, unless the actions have already been done.

(g) Retained Revision to the Airworthiness Limitations (AWL) Section

This paragraph restates the requirements of paragraph (f) of AD 2005-23-01, Amendment 39-14359 (70 FR 69073, November 14, 2005). For airplanes having serial numbers 7003 through 8025 inclusive, 8030, and 8034: Within 30 days after November 29, 2005 (the effective date of AD 2005-23-01), revise the AWL section of the Instructions for Continued Airworthiness of the Canadair Regional Jet Maintenance Requirements Manual (MRM), Part 2, Appendix B, “Airworthiness Limitations,” by incorporating the information specified in AWL 53-61-153 of the Canadair Regional Jet Temporary Revision (TR) 2B-2109, dated October 13, 2005, into the AWL section. Perform the applicable detailed and special detailed inspections for cracking of the aft pressure bulkhead, as specified in that TR, at the applicable compliance time specified in table 1 to paragraph (g) of this AD. Repeat the detailed inspection thereafter at intervals not to exceed 1,085 flight cycles, and repeat the special detailed inspection thereafter at intervals not to exceed 4,360 flight cycles, in accordance with the procedures specified in AWL 53-61-153, as introduced by Canadair Regional Jet TR 2B-2109, dated October 13, 2005, to Appendix B, “Airworthiness Limitations, of Part 2 of the Canadair Regional Jet MRM. Accomplishing the revision required by paragraph (i) of this AD terminates the requirements of this paragraph.

Table 1 to Paragraph (g) of This AD—Compliance Times for Initial Inspections
As of November 29, 2005 (the effective date of AD 2005-23-01, Amendment 39-14359 (70 FR 69073, November 14, 2005)): If the total flight cycles accumulated on the airplane are— | Inspect before the airplane accumulates—
8,000 or fewer | 12,000 total flight cycles.
More than 8,000 but fewer than 12,000 | 15,000 total flight cycles or within 4,000 flight cycles after November 29, 2005 (the effective date of AD 2005-23-01, Amendment 39-14359 (70 FR 69073, November 14, 2005)), whichever is first.
12,000 or more but fewer than 15,000 | 17,000 total flight cycles or within 3,000 flight cycles after November 29, 2005 (the effective date of AD 2005-23-01 Amendment 39-14359 (70 FR 69073, November 14, 2005)), whichever is first.
15,000 or more but fewer than 17,000 | 18,500 total flight cycles or within 2,000 flight cycles after November 29, 2005 (the effective date of AD 2005-23-01 Amendment 39-14359 (70 FR 69073, November 14, 2005)), whichever is first.
17,000 or more but fewer than 18,500 | 19,500 total flight cycles or within 1,500 flight cycles after November 29, 2005 (the effective date of AD 2005-23-01, Amendment 39-14359 (70 FR 69073, November 14, 2005)), whichever is first.
18,500 or more but fewer than 19,500 | 20,000 total flight cycles or within 1,000 flight cycles after November 29, 2005 (the effective date of AD 2005-23-01, Amendment 39-14359 (70 FR 69073, November 14, 2005)), whichever is first.
19,500 or more | 500 flight cycles after November 29, 2005 (the effective date of AD 2005-23-01, Amendment 39-14359 (70 FR 69073, November 14, 2005)).

(h) Retained General Revision of the MRM

This paragraph restates the requirements of paragraph (g) of AD 2005-23-01, Amendment 39-14359 (70 FR 69073, November 14, 2005). For airplanes having serial numbers 7003 through 8025 inclusive, 8030, and 8034: When the information in AWL 53-61-153 of the Canadair Regional Jet TR 2B-2109, dated October 13, 2005, to Appendix B, “Airworthiness Limitations,” of Part 2 of the Canadair Regional Jet MRM, is included in the general revisions of the MRM, the general revisions may be inserted into the AWL section of the Instructions for Continued Airworthiness, and this information may be removed from the MRM.

(i) New Requirement of This AD: Maintenance Program Revision

Within 60 days after the effective date of this AD: Revise the maintenance program by incorporating the revised inspection requirements specified in AWL 53-61-153 of Bombardier TR 2B-2187, dated June 22, 2011, to Appendix B—Airworthiness Limitations, of Part 2 of the Bombardier CL-600-2B19 MRM. The initial compliance times for the task are at the applicable time specified in paragraph (i)(1) or (i)(2) of this AD. Doing the revision required by paragraph (i) of this AD terminates the requirements of paragraph (g) of this AD.

(1) For airplanes on which the special detailed inspection specified in AWL 53-61-153 of Bombardier TR 2B-2187, dated June 22, 2011; or Canadair Regional Jet TR 2B-2109, dated October 13, 2005; has not been done as of the effective date of this AD: The initial compliance time for AWL 53-61-153 is at the applicable time specified in paragraph (i)(1)(i) or (i)(1)(ii) of this AD.

(i) For airplanes that have accumulated 10,500 total flight cycles or less as of the effective date of this AD: Before the accumulation of 12,000 total flight cycles.

(ii) For airplanes that have accumulated more than 10,500 total flight cycles as of the effective date of this AD: Within 1,500 flight cycles after the effective date of this AD.

(2) For airplanes on which the special detailed inspection specified in AWL 53-61-153 of Bombardier TR 2B-2187, dated June 22, 2011; or Canadair Regional Jet TR 2B-2109, dated October 13, 2005; has been done as of the effective date of this AD: The initial compliance time for AWL 53-61-153 is within 4,360 flight cycles after accomplishing the most recent special detailed inspection, or within 1,500 flight cycles after accomplishing the most recent detailed inspection as specified in AWL 53-61-153 of Canadair Regional Jet TR 2B-2109, dated October 13, 2005, whichever occurs later.

(j) No Alternative Actions or Intervals

After accomplishing the revisions required by paragraph (i) of this AD, no alternative actions (e.g., inspections) or intervals may be used other than those specified in Bombardier TR 2B-2187, dated June 22, 2011, to Appendix B—Airworthiness Limitations, of Part 2 of the Bombardier CL-600-2B19 MRM, unless the actions and intervals are approved as an AMOC in accordance with the procedures specified in paragraph (l)(1) of this AD.

(k) New Action of This AD: General Revision of the MRM

The maintenance program revision required by paragraph (i) of this AD may be done by inserting a copy of Bombardier TR 2B-2187, dated June 22, 2011, into Appendix B—Airworthiness Limitations, of Part 2 of the Bombardier CL-600-2B19 MRM. When this TR has been included in general revisions of the MRM, the general revisions may be inserted in the MRM, provided the relevant information in the general revision is identical to that in this TR.

(l) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the manager of the ACO, send it to ATTN: Program Manager, Continuing Operational Safety, FAA, New York ACO, 1600 Stewart Avenue Suite 410, Westbury, New York 11590; telephone (516) 228-7300; fax (516) 794-5531. Before using any approved AMOC, notify your appropriate principal inspector, or lacking a principal inspector, the manager of the local flight standards district office/certificate holding district office. The AMOC approval letter must specifically reference this AD. AMOCs approved previously in accordance with AD 2005-23-01, Amendment 39-14359 (70 FR 69073, November 14, 2005), are approved as AMOCs with the corresponding requirements of paragraphs (g) and (h) of this AD only.

(2) Airworthy Product: For any requirement in this AD to obtain corrective actions from a manufacturer or other source, use these actions if they are FAA-approved. Corrective actions are considered FAA-approved if they are approved by the State of Design Authority (or their delegated agent). You are required to assure the product is airworthy before it is returned to service.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on January 16, 2013.

(i) Bombardier TR 2B-2187, dated June 22, 2011, to Appendix B—Airworthiness Limitations, of Part 2 of the Bombardier CL-600-2B19 MRM.

(ii) Reserved.

(4) The following service information was approved for IBR on November 29, 2005 (70 FR 69073, November 14, 2005).

(i) Canadair Regional Jet Temporary Revision 2B-2109, dated October 13, 2005, to the Canadair Regional Jet Maintenance Requirements Manual, Part 2, Appendix B, “Airworthiness Limitations.”

(ii) Reserved.

(5) For service information identified in this AD, contact Bombardier, Inc., 400 Côte-Vertu Road West, Dorval, Québec H4S 1Y9, Canada; telephone 514-855-5000; fax 514-855-7401; email thd.crj@aero.bombardier.com; Internet http://www.bombardier.com.

(6) You may review copies of the service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on November 30, 2012.
Kalene C. Yanamura,
Acting Manager, Transport Airplane Directorate, Aircraft Certification Service.

[FR Doc. 2012-29708 Filed 12-11-12; 8:45 am]

BILLING CODE 4910-13-P